DEPARTMENT OF THE TREASURY

Customs Service

[T.D. 02-66]

Customs Accreditation of Intertek Testing Services as a Commercial Laboratory

AGENCY: Customs Service, Department of the Treasury.

ACTION: Notice of accreditation of Intertek Testing Services of Sulfur, Louisiana, as a commercial laboratory.

SUMMARY: Intertek Testing Services of Sulfur, Louisiana has applied to U.S. Customs under Part 151.12 of the Customs Regulations for an extension of accreditation as a commercial laboratory to analyze petroleum products under Chapter 27 and Chapter 29 of the Harmonized Tariff Schedule of the United States (HTSUS). Customs has determined that this company meets all of the requirements for accreditation as a commercial laboratory. Specifically, Intertek Testing Services has been granted accreditation to perform the following test methods at their Sulfur, Louisiana site: (1) API Gravity by Hydrometer, ASTM D287; (2) Water and Sediment in Crude Oils by Centrifuge, ASTM D4007; (3) Water in Crude Oil by Distillation, ASTM D4006; (4) Distillation of Petroleum Products, ASTM D86; (5) Salts in Crude Oil (Electrometric Method), ASTM D3230; (6) Sediment in Crude Oils and Fuel Oils by Extraction, ASTM D473; and (7) Percent by Weight of Sulfur by Energy-Dispersive X-Ray Fluorescence, ASTM D4294. Therefore, in accordance with Part 151.12 of the Customs Regulations, Intertek Testing Services of Sulfur, Louisiana is hereby accredited to analyze the products named above.

Location: Intertek Testing Services accredited site is located at: 2717 Maplewood Drive, Sulfur, Louisiana 70663.

EFFECTIVE DATE: November 4, 2002.

FOR FURTHER INFORMATION CONTACT: Arlene Faustermann, Science Officer, Laboratories and Scientific Services, U.S. Customs Service, 1300 Pennsylvania Avenue, NW., Suite 1500 North, Washington, DC 20229, (202) 927-1060.

Dated: November 4, 2002.
Ira S. Reese,
Executive Director, Laboratories and Scientific Services.

[FR Doc. 02-28689 Filed 11-8-02; 8:45 am]

BILLING CODE 4820-02-P